ENVIRONMENTAL PROTECTION AGENCY

[ER-FRL-6669-02]

Environmental Impacts Statements; Notice Of Availability

Responsible Agency: Office of Federal Activities, General Information (202) 564-7167 or http://www.epa.gov/compliance/nepa/.

Weekly receipt of Environmental Impact

Statements

Filed 10/31/2005 Through 11/04/2005

Pursuant to 40 CFR 1506.9.

EIS No. 20050457, Final EIS, IBR, CA, Lake Berryessa Visitor Services Plans, Future Use and Operation, Solano Project Lake Berryessa, Napa County, CA, Wait Period Ends: 12/09/2005, Contact: Peter Lucero 707-966-2111 Ext 106.

EIS No. 20050458, Final EIS, AFS, SD, Deerfield Project Area, Proposes to Implement Multiple Resource Management Actions, Mystic Ranger District, Black Hills National Forest, Pennington County, SD, Wait Period Ends: 12/09/2005, Contact: Robert Thompson 605-343-1567.

EIS No. 20050459, Draft EIS, BLM, 00, Programmatic—Vegetation Treatments Using Herbicides on Bureau of Land Management Public Lands in 17 Westerns, including Alaska, Comment Period Ends: 01/09/2006, Contact: Brian Amme 775-861-6645.

EIS No. 20050460, Draft Supplement, USN, 00, Surveillance Towed Array Sensor System Low Frequency Active (SURTASS LFA) Sonar Systems, Updated and Additional Information, Implementation, Comment Period Ends: 12/27/2005, Contact: J.S. Johnson 703-465-8404.

EIS No. 20050461, Final EIS, AFS, WY, Bighorn National Forest Revised Land and Resource Management Plan, Implementation, Big Horn Mountain Range, Bighorn National Forest, Johnson, Sheridan, Bighorn, and Washakie Counties, WY, Wait Period Ends: 12/09/2005, Contact: Bernie Bornong 307-674-2685.

EIS No. 20050462, Draft EIS, IBR, CA, South Delta Improvements Program, To Improve Water Quality, Water Conveyance, and Fish Habitat Conditions, Central Valley Project, U.S. Army COE Section 404 Permit, South Sacramento-San Joaquin River Delta, Several Counties, CA, Comment Period Ends: 02/07/2006, Contact: Sharon McHale 916-978-5086.

EIS No. 20050463, Final EIS, BLM, NV, North Valleys Rights-of-Way Projects, Proposed Construction and Operation of Water Transmission Pipelines, Washoe County, NV, Wait Period Ends: 12/09/2005, Contact: Terri Knutson 775-885-6156.

EIS No. 20050464, Final EIS, AFS, 00, Quachita National Forest, Proposed Revised Land Resource Management Plan, Implementation, Several Counties, AR; and LeFlore and McCurtain Counties, OK, Wait Period Ends: 12/09/2005, Contact: Bill Pell 501-321-5320.

EIS No. 20050465, Final Supplement, FHW, UT, Legacy Parkway Project, Construction from 1-215 at 2100 North in Salt Lake City to 1-15 and US-89 near Farmington, Updated Information, Funding and U.S. Army COE Section 404 Permit, Salt Lake and Davis Counties, UT, Wait Period Ends: 12/09/2005, Contact: Gregory Punske, P.E. 801-963-0182.

EIS No. 20050466, Final EIS, COE, NJ, Liberty State Park Ecosystem Restoration Project, Hudson Raritan Estuary Study, To Address the Adverse Impacts Associated with Past Filling Activities, Port Authority of New and New Jersey City, Hudson County, NJ, Wait Period Ends: 12/09/2005, Contact: Mark Matusiak 202-761-5909.

EIS No. 20050467, Final EIS, COE, NY, Montuak Point Storm Damage Reduction Project, Proposed Reinforcement of an Existing Stone Revetment Wall, Suffolk County, NY, Wait Period Ends: 12/09/2005, Contact: Lee Ware 202-761-4242.

EIS No. 20050468, Draft EIS, EPA, CA, Regional Non-Potable Water Distribution System Project, Funding, US Army COE Section 404 Permit, Riverside and San Bernardino Counties, CA, Comment Period Ends: 12/28/2005, Contact: Elizabeth Borowiec 415-972-3419.

EIS No. 20050469, Draft EIS, NOA, 00, PROGRAMMATIC—Towards an Ecosystem Approach for the Western Pacific Region: From Species Based Fishery Management Plans to Place-Based Fishery Ecosystem Plans, Realignment, Implementation, Western Pacific Region (America Samoa, Guam, Hawaii, Commonwealth of the Northern Mariana Islands), and US Pacific Remote Island Areas, Comment Period Ends: 12/26/2005, Contact: William L. Robinson 808-944-2200. This document is available on the Internet at: http://swr.nmfs.noaa.gov/pir.

EIS No. 20050470, Final EIS, NPS, AZ, Colorado River Management Plan, Analyzing Alternatives for Management of Recreational Use of the Colorado River, Grand Canyon National Park, Coconino County, AZ, Wait Period Ends: 12/09/2005, Contact: Rick Ernenwein 928-779-6279.

Amended Notices

EIS No. 20050397, Draft EIS, BIA, ID, Programmatic—Coeur d' Alene Tribe Integrated Resource Management Plan, Implementation, Coeur d' Alene Reservation and Aboriginal Territory, ID, Comment Period Ends: 12/14/2005, Contact: Tiffany Allgood 208-686-8802.

Revision of Federal Register Notice Published on 09/30/2005: Comment Period Extended from 11/14/2005 to 12/14/2005.

EIS No. 20050454, Draft EIS, FRC, 00, Cove Point Expansion Project, Construction and Operation of a Liquefied Natural Gas (LNG) Import Terminal Expansion and Natural Gas Pipeline Facilities, US. Army COE Section 404 Permit, Docket Nos. CPO5-130-000, CP05-131-000 and CP05-132-00, PA, VA, WV, NY and MD, Comment Period Ends: 12/21/2005, Contact: Thomas Russo 1-866-208-3372.

Revision of Federal Register Notice Published 11/04/2005: Correction to Document Status from Final to Draft EIS.

Dated: November 7, 2005.
Robert W. Hargrove,
Director, NEPA Compliance Division, Office of Federal Activities.

[FR Doc. 05-22467 Filed 11-9-05; 8:45 am]

BILLING CODE 6560-50-P